NATIONAL ARCHIVES AND RECORDS ADMINISTRATION

Information Security Oversight Office

State, Local, Tribal, And Private Sector Policy Advisory Committee (SLTPS-PAC)

AGENCY: Information Security Oversight Office, National Archives and Records Administration.

ACTION: Notice of meeting.

SUMMARY: In accordance with the Federal Advisory Committee Act, as amended (5 U.S.C. Appendix 2) and implementing regulation 41 CFR 101-6, the Information Security Oversight Office (ISOO) announces the inaugural meeting of the State, Local, Tribal, and Private Sector Policy Advisory Committee (SLTPS-PAC). The SLTPS-PAC will advise the President, the Secretary of Homeland Security, the Director of the Information Security Oversight Office (ISOO), and other executive branch officials on all matters concerning the policies relating to access to and safeguarding of classified national security information by U.S. State, Local, Tribal, and Private Sector Entities, as specified in Executive Order 13549 and its implementing directive.

DATES: The meeting will be held on Tuesday, January 11, 2011 from 1 p.m. to 3 p.m.

ADDRESSES: National Archives and Records Administration, 700 Pennsylvania Avenue, NW, Jefferson Room, Washington, DC 20408.

SUPPEMENTARY INFORMATION: This meeting will be open to the public. However, due to space limitations and access procedures, the name and telephone number of individuals planning to attend must be submitted to the Information Security Oversight Office no later than Thursday, January 6, 2011. ISOO will provide additional instructions for gaining access to the location of the meeting.

FOR FURTHER INFORMATION CONTACT: Robert J. Skwirot, Senior Program Analyst, ISOO, National Archives Building, 700 Pennsylvania Avenue, NW., Washington, DC 20408, telephone number (202) 357-5398, or at robert.skwirot@nara.gov. Contact ISOO at ISOO@nara.gov.

Dated: December 16, 2010.
Mary Ann Hadyka,
Committee Management Officer.

[FR Doc. 2010-32150 Filed 12-20-10; 8:45 am]

BILLING CODE 7515-01-P